DEPARTMENT OF THE INTERIOR

Minerals Management Service

30 CFR Part 206

RIN 1010-AC24

Public Workshop on Proposed Rule—Establishing Oil Value for Royalty Due on Indian Leases

AGENCY: Minerals Management Service, Interior.

ACTION: Notice of Public Workshop.

SUMMARY: The Minerals Management Service (MMS) is giving notice of a public workshop concerning the supplementary proposed Indian oil value rule published in the Federal Register on January 5, 2000, (65 FR 403). The proposed rule would amend the royalty valuation regulations for crude oil produced from Indian leases.

DATES: The public workshop will be held in Lakewood, Colorado, on February 8, 2000, beginning at 9 a.m. and ending at 3 p.m., Mountain time.

ADDRESSES: The workshop will be held at the Minerals Management Service, Royalty Management Program, Denver Federal Center, Auditorium, Building 85, Kipling Street (between 6th Avenue and Alameda Pkwy), Lakewood, CO 80215, telephone number (303) 231-3585.

FOR FURTHER INFORMATION CONTACT: Mr. Peter Christnacht, Royalty Valuation Division, Royalty Management Program, Minerals Management Service, P.O. Box 25165, MS 3151, Denver, Colorado, 80225-0165, telephone number (303) 275-7252; or, Mr. David S. Guzy, Chief, Rules and Publications Staff, Royalty Management Program, Minerals Management Service, P.O. Box 25165, MS 3021, Denver, Colorado 80225-0165, telephone number (303) 231-3432, fax number (303) 231-3385, e-mail David.Guzy@mms.gov.

SUPPLEMENTARY INFORMATION: The workshop will be open to the public in order to discuss the supplementary proposed rule and gather comments. We encourage members of the public to attend this meeting. Those wishing to make formal presentations should sign up upon arrival. The sign-up sheet will determine the order of speakers. For building security measures, each person will be required to sign in and may be required to present a picture identification to gain entry to the meeting.

Dated: January 11, 2000.
Lucy Querques Denett,
Associate Director for Royalty Management.

[FR Doc. 00-1099 Filed 1-14-00; 8:45 am]

BILLING CODE 4310-MR-P